INTERNATIONAL TRADE COMMISSION

[Investigation No. 337-TA-1289]

Certain Knitted Footwear; Notice of a Commission Determination Not To Review an Initial Determination Granting a Motion To Amend the Complaint and Notice of Investigation

AGENCY: U.S. International Trade Commission.

ACTION: Notice.

SUMMARY: Notice is hereby given that the U.S. International Trade Commission has determined not to review the presiding administrative law judge's (“ALJ”) initial determination (“ID”) (Order No. 8) granting an unopposed motion to amend the complaint and notice of investigation (“NOI”) to (1) add an additional adidas respondent, adidas International Trading AG of Lucerne, Switzerland (“adidas International”) and (2) add Harmonized Tariff Schedule (“HTS”) numbers for the imported accused products and identify additional countries from which the accused products are imported.

FOR FURTHER INFORMATION CONTACT: Panyin A. Hughes, Office of the General Counsel, U.S. International Trade Commission, 500 E Street SW, Washington, DC 20436, telephone (202) 205-3042. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On January 13, 2022, the Commission instituted this investigation based on a complaint filed by Nike, Inc. of Beaverton, Oregon. 87 FR 2176-77 (Jan. 13, 2022). The complaint alleged violations of section 337 of the Tariff Act of 1930, as amended, based on the importation into the United States, the sale for importation, or the sale within the United States after importation of certain knitted footwear by reason of infringement of one or more claims of U.S. Patent Nos. 9,918,511; 9,743,705; 8,266,749; 7,814,598; 9,060,562; and 8,898,932. Id. The Commission's notice of investigation named the following adidas entities as respondents: Adidas AG of Herzogenaurach, Germany; adidas North America, Inc. of Portland Oregon; and adidas America, Inc. also of Portland, Oregon. The Office of Unfair Import Investigations was not named as a party in this investigation. Id.

On February 22, 2022, Nike moved under 19 CFR 210.14 to amend the Complaint and NOI to (1) add adidas International as a respondent; and (2) to add importation information for the accused products relating to HTS numbers and countries of origin. Nike argued that it did not know about the role of adidas International until the existing respondents filed their responses to the complaint and NOI and that adding adidas International “is necessary to provide a complete evidentiary record regarding the distribution, sale for importation, importation, and sale after importation of the Accused Products, among other issues.” ID at 2. Similarly, Nike argued that it did not know about the additional HTS numbers and countries of origin until receiving responses to the complaint and NOI. Nike stated that the named adidas respondents do not oppose the motion. Id. at 1.

On March 7, 2022, the ALJ issued the subject ID, granting the motion. The ID found that good cause exists to grant the motion to add adidas International as a respondent and add information regarding HTS numbers of the imported accused products and their countries of origin. Id. at 3-4. No one petitioned for review of the subject ID.

The Commission has determined not to review the subject ID. adidas International is added to the investigation as a respondent.

The Commission vote for this determination took place on March 21, 2022.

The authority for the Commission's determination is contained in section 337 of the Tariff Act of 1930, as amended (19 U.S.C. 1337), and in part 210 of the Commission's Rules of Practice and Procedure (19 CFR part 210).

By order of the Commission.
Issued: March 21, 2022.
Lisa Barton,
Secretary to the Commission.

[FR Doc. 2022-06295 Filed 3-24-22; 8:45 am]

BILLING CODE 7020-02-P